FEDERAL MINE SAFETY AND HEALTH REVIEW COMMISSION

Meeting; Sunshine Act

May 7, 2004.

Time and Date: 10 a.m., Tuesday, May 18, 2004.

Place: The Richard V. Backley Hearing Room, 9th Floor, 601 New Jersey Avenue, N.W., Washington, DC.

Status: Open.

Matters to be Considered: The Commission will consider and act upon the following in open session:

Secretary of Labor v. Twentymile Coal Company, Docket Nos. WEST 2000-480-R and WEST 2002-131. (Issues include whether Twentymile violated the task training regulation, 30 CFR 48.7(c), when it assigned miners to unplug a coal chute in its underground mine; whether the order at issue was sufficiently specific; whether the violation was significant and substantial (S&S); and whether the Secretary timely issued the penalty proposal.)

The Commission heard oral argument in this matter on April 29, 2004.

Any person attending this meeting who requires special accessibility features and/or auxiliary aids, such as sign language interpreters, must inform the Commission in advance of those needs. Subject to 29 CFR 2706.150(a)(3) and 2706.160(d).

Contact Person For More Information: Jean Ellen, (202) 434-9950/(202) 708-9300 for TDD Relay/1-800-877-8339 for toll free.

Jean H. Ellen,
Chief Docket Clerk.

[FR Doc. 04-11178 Filed 5-12-04; 4:51 pm]

BILLING CODE 6735-01-M